DEPARTMENT OF COMMERCE

Bureau of Economic Analysis

[Docket No. 140625540-4540-01]

Proposed Data Sharing Activity

AGENCY: Bureau of Economic Analysis, Commerce.

ACTION: Notice and request for public comment.

SUMMARY: The Bureau of Economic Analysis (BEA) plans to provide to the Bureau of the Census (Census) certain business data collected on its benchmark and annual surveys of U.S. direct investment abroad and foreign direct investment in the United States for statistical purposes exclusively. In accordance with the requirement of Section 524(d) of the Confidential Information Protection and Statistical Efficiency Act of 2002 (CIPSEA), we are providing the opportunity for public comment on this data sharing action. BEA will provide data collected in its surveys to link with data from the Census Company Organization Survey (COS). The linked data will be used for several purposes by both agencies, such as validating data collected on, and improving the sample of, the COS and assisting both agencies in developing specific questionnaire language to measure topics related to economic globalization, such as international trade in contract manufacturing services and intellectual property. The BEA and Census Bureau may publish non-confidential aggregate reports (public use) that have cleared the BEA and Census Bureau disclosure reviews.

DATES: Written comments must be submitted on or before 5 p.m. September 19, 2014.

ADDRESSES: Please direct all written comments on this proposed program to the Director, Bureau of Economic Analysis (BE-1), Washington, DC 20230.

FOR FURTHER INFORMATION CONTACT: Requests for additional information on this proposed program should be directed to Raymond Mataloni, Department of Commerce, Bureau of Economic Analysis (BE-50), Washington, DC 20230, via the Internet at raymond.mataloni@bea.gov, by phone on (202) 606-9867, or by FAX on (202) 606-2934.

SUPPLEMENTARY INFORMATION:

Background

Title 13 United States Code (U.S.C.), Section 402, Title 22 U.S.C., Section 3104(d), and Section 524(a) of the CIPSEA (44 U.S.C. 3501 note) allow BEA and Census to share certain business data for exclusively statistical purposes. Section 524(d) of the CIPSEA requires us to publish a Federal Register notice announcing our intent to share data (allowing 60 days for public comment), since BEA respondents were required by law to report the data. Section 524(d) also requires us to provide information about the terms of the agreement for data sharing. For purposes of this notice, BEA has decided to group these terms by three categories. The categories are:

• Shared data.

• Statistical purposes for the shared data.

• Data access and confidentiality.

Shared Data

BEA proposes to provide Census with data collected in the benchmark and annual surveys of U.S. direct investment abroad and of foreign direct investment in the United States. Census will use these data for statistical purposes exclusively.

Statistical Purposes for the Shared Data

Data collected in the benchmark and annual surveys of direct investment are used to develop estimates of the financing and operations of U.S. parent companies, their foreign affiliates, and U.S. affiliates of foreign companies. These estimates are published in the Survey of Current Business, BEA's monthly journal; in other BEA publications; and on BEA's Web site at http://www.bea.gov/. All data to be shared by BEA are collected pursuant to the International Investment and Trade in Services Survey Act (22 U.S.C. 3101-3108).

The data set created by linking these data with data from the Census COS will be used for several purposes by both agencies, such as validating data collected on, and improving the sample of, the COS and assisting both agencies in developing specific questionnaire language to measure topics related to economic globalization, such as international trade in contract manufacturing services and intellectual property.

Data Access and Confidentiality

Title 22, U.S.C., Section 3104(c), protects the confidentiality of these data. The data may be seen only by persons sworn to uphold the confidentiality of the information. Access to the shared data will be restricted to specifically authorized personnel and will be provided for statistical purposes only. Any results of this research are subject to BEA and Census disclosure protection. All Census employees with access to BEA data will become BEA Special Sworn Employees—meaning that they, under penalty of law, must uphold the data's confidentiality. All BEA employees with access to Census data will become special sworn agents of the Census Bureau—meaning that they, under penalty of law, must uphold the data's confidentiality.

Dated: July 9, 2014.
Brian Moyer,
Acting Director, Bureau of Economic Analysis.

[FR Doc. 2014-17006 Filed 7-18-14; 8:45 am]

BILLING CODE 3510-06-P